DEPARTMENT OF THE INTERIOR

Bureau of Indian Affairs

[178A2100DD/AAKC001030/A0A501010.999900 253G]

Early Revision of Agency Information Collection for the Application for Admission to Haskell Indian Nations University and to Southwestern Indian Polytechnic Institute

AGENCY: Bureau of Indian Affairs, Interior.

ACTION: Notice of request for comments.

SUMMARY: In compliance with the Paperwork Reduction Act of 1995, the Bureau of Indian Education (BIE) is seeking comments on the early renewal of Office of Management and Budget (OMB) approval for the collection of information for the Application for Admission to Haskell Indian Nations University (Haskell) and to Southwestern Indian Polytechnic Institute (SIPI), authorized by OMB Control Number 1076-0114. This information collection expires August 31, 2017.

DATES: Submit comments on or before June 26, 2017.

ADDRESSES: You may submit comments on the information collection to: Ms. Jacquelyn Cheek, Special Assistant to the Director, Bureau of Indian Education, 1849 C Street NW., Mailstop 3609-MIB, Washington, DC 20240; facsimile: (202) 208-3312; or email to: Jacquelyn.Cheek@bie.edu.

FOR FURTHER INFORMATION CONTACT: Ms. Jacquelyn Cheek, phone: (202) 208-6983.

SUPPLEMENTARY INFORMATION:

I. Abstract

The BIE is requesting early renewal of OMB approval for the admission forms for Haskell and SIPI. These admission forms are used in determining program eligibility of American Indian and Alaska Native students for educational services. These forms are utilized pursuant to the Blood Quantum Act, Public Law 99-228; the Snyder Act, Chapter 115, Public Law 67-85; and, the Indian Appropriations of the 48th Congress, Chapter 180, page 91, For Support of Schools, July 4, 1884. The application was revised following input from students on the form. Haskell reduced the length of the application form to a page and a half. SIPI's application did not change.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0114.

Title: Application for Admission to Haskell Indian Nations University and to Southwestern Indian Polytechnic Institute.

Brief Description of Collection: Submission of these eligibility application forms is mandatory in determining a student's eligibility for educational services. The information is collected on two forms: Application for Admission to Haskell form and SIPI form.

Type of Review: Early revision of currently approved collection.

Respondents: Students.

Number of Respondents: 4,000 per year, on average.

Frequency of Response: Once per year for Haskell; each trimester for SIPI.

Estimated Time per Response: 30 minutes per Haskell application; 30 minutes per SIPI application.

Obligation to Respond: Response required to obtain a benefit.

Estimated Total Annual Hour Burden: 2,000 hours.

Estimated Total Annual Non-Hour Dollar Cost: $12,360.

Authority

These forms are utilized pursuant to the Blood Quantum Act, Public Law 99-228; the Snyder Act, Chapter 115, Public Law 67-85; and, the Indian Appropriations of the 48th Congress, Chapter 180, page 91, For Support of Schools, July 4, 1884. The authority for this action is the Paperwork Reduction Act of 1995, 44 U.S.C. 3501 et seq.

Elizabeth K. Appel,
Director, Office of Regulatory Affairs and Collaborative Action—Indian Affairs.

[FR Doc. 2017-08531 Filed 4-26-17; 8:45 am]

BILLING CODE 4337-15-P